DEPARTMENT OF TRANSPORTATION

Pipeline and Hazardous Materials Safety Administration

Notice of Delays in Processing of Special Permits Applications

AGENCY: Pipeline and Hazardous Materials Safety Administration (PHMSA), Office of Hazardous Materials Safety, DOT.

ACTION: List of Applications Delayed More than 180 Days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue Southeast, Washington, DC 20590-0001, (202) 366-4535.

SUPPLEMENTARY INFORMATION:

Key to “Reason for Delay”

1. Awaiting additional information from applicant.

2. Extensive public comment under review.

3. Application is technically complex and is of significant impact or precedent-setting and requires extensive analysis.

4. Staff review delayed by other priority issues or volume of special permit Applications.

Meaning of Application Number Suffixes

N—New application.

M—Modification request.

R—Renewal Request.

P—Party To Exemption Request.

Issued in Washington, DC, on February 2, 2012.
Donald Burger,
Chief, General Approvals and Permits.

Application No. | Applicant | Reason for delay | Estimated date of completion
Modification to Special Permits
8826-M | Phoenix Air Group, Inc. Cartersville, GA | 4 | 03-31-2012
14909-M | Lake Clark Air, Inc. Port Alsworth, AK | 4 | 03-31-2012
10656-M | Conference of Radiation Control Program Directors, Inc. Frankfort, KY | 4 | 03-31-2012
11406-M | Conference of Radiation Control Program Directors, Inc. Frankford, KY | 4 | 03-31-2012
12561-M | Rhodia, Inc. Cranbury, NJ | 4 | 03-31-2012
New Special Permit Applications
14872-N | Arkema, Inc. King of Prussia, PA | 4 | 03-31-2012
14951-N | Lincoln Composites Lincoln, NE | 1 | 03-31-2012
15080-N | Alaska Airlines Seattle, WA | 1 | 03-31-2012
15233-N | ExpressJet Airlines, Inc. Houston, TX | 4 | 03-31-2012
15510-N | TEMSCO Helicopters, Inc. Ketchikan, AK | 4 | 03-31-2012
Party to Special Permits Application
12134-P | Riceland Foods, Inc. Stuttgart, AR | 4 | 03-31-2012
Renewal Special Permits Applications
8445-R | Environmental Products & Services, Inc. Syracuse, NY | 4 | 03-31-2012
12443-R | Thatcher Company of Nevada Henderson, NV | 4 | 03-31-2012
14482-R | Classic Helicopters Limited, L.C. Woods Cross, UT | 4 | 03-31-2012
11759-R | E.I. duPont de Neumours & Company, Inc. Wilmington, DE | 4 | 03-31-2012
8723-R | Nelson Brothers Mining Services, LLC Birmingham, AL | 4 | 03-31-2012
11749-R | Occidental Chemical Corporation Dallas, TX | 4 | 03-31-2012
7891-R | Aldrich Chemical Company Inc. Milwaukee, WI | 4 | 03-31-2012
12283-R | Interstate Battery of Alaska Anchorage, AK | 4 | 03-31-2012
10709-R | Schlumberger Technologies Corporation Sugar Land, TX | 4 | 03-31-2012
11227-R | Schlumberger Well Services a Division of Schlumberger Technology Corporation Sugar Land, TX | 4 | 03-31-2012
9929-R | Alliant Techsystems Inc. Propulsion & Controls (Former Grantee ATK Elkton) Elkton, MD | 4 | 03-31-2012
11903-R | Comptank Corporation Bothwell, ON | 4 | 03-31-2012
4850-R | Schlumberger Technology Corporation Sugar Land, TX | 4 | 03-31-2012

[FR Doc. 2012-2898 Filed 2-13-12; 8:45 am]

BILLING CODE 4910-60-M